COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products to the Procurement List that will be furnished by a nonprofit agency employing persons who are blind or have other severe disabilities.

DATES: Effective Date: 12/27/2012.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or email CMTEFedReg@AbilityOne.gov.

SUPPLEMENTARY INFORMATION:

Additions

On 9/28/2012 (77 FR 59596-59597), the Committee for Purchase From People Who Are Blind or Severely Disabled published notice of proposed additions to the Procurement List.

After consideration of the material presented to it concerning capability of qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing a small entity to furnish the products to the Government.

3. There are no known regulatory alternatives which would accomplish the objectives of the Javits-Wagner-O'Day Act (41 U.S.C. 8501-8506) in connection with the products proposed for addition to the Procurement List.

End of Certification

Accordingly, the following products are added to the Procurement List:

PRODUCTS:

NSN: CBFF0001—Shirt, Navy Fire Fighters, Unisex, Short Sleeve Polo, Small thru XXX-Large

NSN: CBFF0002—Shirt, Navy Fire Fighters, Unisex, Short Sleeve Polo, Beyond XXX-Large

NSN: CBFF0003—Shirt, Polo, Navy Fire Fighters, Unisex, Long Sleeve, Small thru XXX-Large

NSN: CBFF0004—Shirt, Polo, Navy Fire Fighters, Unisex, Long Sleeve, Beyond XXX-Large

NSN: CBFF0005—Shirt, Navy Fire Fighters, Unisex, Short Sleeve, Neck 14 ½″ thru 19″

NSN: CBFF0006—Shirt, Navy Fire Fighters, Unisex, Short Sleeve, Neck beyond 19″

NSN: CBFF0007—Shirt, Navy Fire Fighters, Unisex, Neck size 14 ½″ to 19″, Long Sleeve, 33″ to 37″

NSN: CBFF0008—Shirt, Navy Fire Fighters, Unisex, Long Sleeve, Neck beyond 19″, Sleeve beyond 37″

NSN: CBFF0009—Pants, Navy Fire Fighters, Women's, Tactical, 6oz., 4 thru 20

NSN: CBFF0010—Pants, Navy Fire Fighters, Women's, Tactical, 6oz., 22 thru 24

NSN: CBFF0011—Pants, Navy Fire Fighters, Women's, Tactical, 6oz., beyond 24

NSN: CBFF0012—Pants, Navy Fire Fighters, Men's, Tactical, 6oz., Waist 30″ thru 48″

NSN: CBFF0013—Pants, Navy Fire Fighters, Men's, Tactical, 6oz., Waist 50″ thru 56″

NSN: CBFF0014—Pants, Navy Fire Fighters, Men's, Tactical, 6oz., Waist beyond 56″

NSN: CBFF0015—Pants, Navy Fire Fighters, Women's, Tactical, 7.5oz., 4 thru 20

NSN: CBFF0016—Pants, Navy Fire Fighters, Women's, Tactical, 7.5oz., 22 thru 24

NSN: CBFF0017—Pants, Navy Fire Fighters, Women's, Tactical, 7.5oz., beyond 24

NSN: CBFF0018—Pants, Navy Fire Fighters Men's, Tactical, 7.5oz., Waist 30″ thru 48″

NSN: CBFF0019—Pants, Navy Fire Fighters, Men's, Tactical, 7.5oz., Waist 50″ thru 56″

NSN: CBFF0020—Pants, Navy Fire Fighters, Men's, Tactical, 7.5oz., Waist beyond 56″

NSN: CBFF0021—Shorts, Navy Fire Fighters, Men's, Tactical, 6oz., Waist 30″ thru 48″

NSN: CBFF0022—Shorts, Navy Fire Fighters, Men's, Tactical, 6oz., Waist 50″ thru 56″

NSN: CBFF0023—Shorts, Navy Fire Fighters, Men's, Tactical, 6oz., Waist beyond 56″

NSN: CBFF0024—T-Shirt, Navy Fire Fighters, Small thru X-Large

NSN: CBFF0024XXL—T-Shirt, Navy Fire Fighters, XX-Large

NSN: CBFF0024XXXL—T-Shirt, Navy Fire Fighters, XXX-Large

NSN: CBFF0024XXXXL—T-Shirt, Navy Fire Fighters, XXXX-large

NSN: CBFF0025—Shirt, Navy Fire Fighters, Men's, Workstation, Small thru X-Large

NSN: CBFF0025XXL—Shirt, Navy Fire Fighters, Men's, Workstation, XX-Large

NSN: CBFF0025XXXL—Shirt, Navy Fire Fighters, Men's, Workstation, XXX-Large

NSN: CBFF0025XXXXL—Shirt, Navy Fire Fighters, Men's, Workstation, XXXX-Large

NSN: CBFF0025XXXXXL—Shirt, Navy Fire Fighters, Men's, Workstation, XXXXX-Large

NSN: CBFF0026—Pants, Navy Fire Fighters, Women's, Uniform, 4 thru 20

NSN: CBFF0027—Pants, Navy Fire Fighters, Women's, Uniform, 22 thru 24

NSN: CBFF0028—Pants, Navy Fire Fighters, Women's, Uniform, Beyond 24

NSN: CBFF0029—Pants, Navy Fire Fighters, Men's, Uniform, Waist 28″ thru 48″

NSN: CBFF0030—Pants, Navy Fire Fighters, Men's, Uniform, Waist 50″ thru 56″

NSN: CBFF0031—Pants, Navy Fire Fighters, Men's, Uniform, Waist beyond 56″

NSN: CBFF0032—Pants, Navy Fire Fighters, Women's, EMS, 4 thru 20

NSN: CBFF0033—Pants, Navy Fire Fighters, Women's, EMS, size 22 thru 24

NSN: CBFF0034—Pants, Navy Fire Fighters, Women's, EMS, beyond 24

NSN: CBFF0035—Pants, Navy Fire Fighters, Men's, EMS, Waist 28″ thru 48″

NSN: CBFF0036—Pants, Navy Fire Fighters, Men's, EMS, Waist 50″ thru 56″

NSN: CBFF0037—Pants, Navy Fire Fighters, Men's, EMS, Waist beyond 56″

NSN: CBFF0038—Belt, Navy Fire Fighters, Leather w/o Buckle, Waist 28″ thru 40″

NSN: CBFF0039—Belt, Navy Fire Fighters, Leather w/o Buckle, Waist 42″ thru 56″

NSN: CBFF0040—Belt, Navy Fire Fighters, Leather w/o Buckle, Waist 58″ thru 62″

NSN: CBFF0041—Belt, Navy Fire Fighters, Leather w/Chrome Buckle, Waist 28″ thru 40″

NSN: CBFF0042—Belt, Navy Fire Fighters, Leather w/Chrome Buckle, Waist 42″ thru 56″

NSN: CBFF0043—Belt, Navy Fire Fighters, Leather w/Chrome Buckle, Waist 58″ thru 62″

NSN: CBFF0044—Belt, Navy Fire Fighters, Leather w/Gold Buckle, Waist 28″ thru 40″

NSN: CBFF0045—Belt, Navy Fire Fighters, Leather w/Gold Buckle, Waist 42″ thru 56″

NSN: CBFF0046—Belt, Navy Fire Fighters, Leather w/Gold Buckle, Waist 58″ thru 62″

NSN: CBFF0047—Belt, Navy Fire Fighters TDU, w/Plastic Buckle, Waist 28″ thru 40″

NSN: CBFF0048—Belt, Navy Fire Fighters TDU, w/Plastic Buckle, Waist 42″ thru 56″

NSN: CBFF0049—Belt, Navy Fire Fighters TDU, w/Plastic Buckle, Waist 58″ thru 62″

NSN: CBFF0050—Tie Clip, Navy Fire Fighters, Plastic

NSN: CBFF0051—Tie Clip, Navy Fire Fighters, Metal

NSN: CBFF0053—Nameplate, Navy Fire Fighters, 2 Line, Metal

NSN: CBFF0054—Collar, Brass, Navy Fire Fighters, Metal

NSN: CBFF0055—Shorts, Navy Fire Fighters, Physical Training, Small thru X-Large

NSN: CBFF0055XXL—Shorts, Navy Fire Fighters, Physical Training, XX-Large

NSN: CBFF0055XXXL—Shorts, Navy Fire Fighters, Physical Training, XXX-Large

NSN: CBFF0055XXXXL—Shorts, Navy Fire Fighters, Physical Training, XXXX-Large

NSN: CBFF0056—T-Shirt, Navy Fire Fighters, Physical Training, Short Sleeve Small thru X-Large

NSN: CBFF0056XXL—T-Shirt, Navy Fire Fighters, Physical Training, Short Sleeve XX-Large

NSN: CBFF0056XXXL—T-Shirt, Navy Fire Fighters, Physical Training, Short Sleeve, XXX-Large

NSN: CBFF0056XXXXL—T-Shirt, Navy Fire Fighters, Physical Training, Short Sleeve, XXXX-Large

NSN: CBFF0057—Sweat Pants, Navy Fire Fighters, Physical Training, Small thru X-Large

NSN: CBFF0057XXL—Sweat Pants, Navy Fire Fighters, Physical Training, XX-Large

NSN: CBFF0057XXXL—Sweat Pants, Navy Fire Fighters, Physical Training, XXX-Large

NSN: CBFF0057XXXXL—Sweat Pants, Navy Fire Fighters, Physical Training, XXXX-Large

NSN: CBFF0058—Sweat Shirt, Navy Fire Fighters, Physical Training, Small thru X-Large

NSN: CBFF0058XXL—Sweat Shirt, Navy Fire Fighters, Physical Training, XX-Large

NSN: CBFF0058XXXL—Sweat Shirt, Navy Fire Fighters, Physical Training, XXX-Large

NSN: CBFF0058XXXXL—Sweat Shirt, Navy Fire Fighters, Physical Training, XXXX-Large

NSN: CBFF0059—Coveralls, Navy Fire Fighters, Long Sleeve, 34″ to 48″

NSN: CBFF0060—Coveralls, Navy Fire Fighters, Long Sleeve, 50″ to 60″

NSN: CBFF0061—Coveralls, Navy Fire Fighters, Long Sleeve, Beyond 60″

NSN: CBFF0062—Coveralls, Navy Fire Fighters, Short Sleeve, 34″ thru 48″

NSN: CBFF0063—Coveralls, Navy Fire Fighters, Short Sleeve, 50″ thru 60″

NSN: CBFF0064—Coveralls, Navy Fire Fighters, Short Sleeve, Beyond 60″

NSN: CBFF0065—Sweater, Navy Fire Fighters, Unisex, Navy Small thru X-Large

NSN: CBFF0066—Sweater, Navy Fire Fighters, Unisex, Navy, XX-Large thru XXX-Large

NSN: CBFF0067—Sweater, Navy Fire Fighters, Unisex, Navy, Small thru X-Large

NSN: CBFF0068—Sweater, Navy Fire Fighters, Unisex, Navy, XX-Large thru XXX-Large

NSN: CBFF0069—Shirt, Navy Fire Fighters, Short Sleeve, White, Neck 14″ thru 18.5″

NSN: CBFF0070—Shirt, Navy Fire Fighters, Short Sleeve, White, Neck beyond 18.5″

NSN: CBFF0071—Shirt, Navy Fire Fighters, Short Sleeve, White, neck 14″ thru 18.5″, Long Body

NSN: CBFF0072—Shirt, Navy Fire Fighters, Long Sleeve, White, Neck 14.5″ to 18.5″, Sleeve 33″ to 37″

NSN: CBFF0073—Shirt, Navy Fire Fighters, Long Sleeve, White, Neck 19″ and above, Sleeve 33″ to 37″

NSN: CBFF0074—Shirt, Navy Fire Fighters, Long Sleeve, White, Neck 14.5″ to 18.5″ Sleeve Beyond 37″

NSN: CBFF0075—Shirt, Navy Fire Fighters, Long Sleeve, White, Neck 14.5″ to 18.5″ w/Long Body

NSN: CBFF0076—Jacket, Navy Fire Fighters, Cyclone, X-Small thru XXXX-Large

NSN: CBFF0077—Ball Cap, Navy Fire Fighters, Elastic, One Size Fits All

NSN: CBFF0078—Baseball Cap, Navy Fire Fighters, Velcro, One Size Fits All

NSN: CBFF0079—Watch Cap, Navy Fire Fighters, One Size Fits All

NSN: CBFF0080—Watch Cap, Navy Fire Fighters, One Size Fits All

NPA: Oswego Industries, Inc., Fulton, NY

Contracting Activity: DEPT OF THE NAVY, NAVSUP FLT LOG CTR, JACKSONVILLE, FL

COVERAGE: C-List for 100% of the requirement of the Naval Supply Systems Command (NAVSUP) Fleet Logistics Center, Jacksonville, FL, as aggregated by the Naval Supply Systems Command (NAVSUP) Fleet Logistics Center, Jacksonville, FL.

The Committee for Purchase From People Who Are Blind or Severely Disabled (Committee) has the statutory responsibility to identify products and services that are suitable for procurement by the Government which are produced or provided by qualified nonprofit agencies employing people who are blind or severely disabled. This responsibility applies whether the project is a new requirement, or is currently performed by a commercial contractor or some other provider, such as FPI. The subject requirement was not strategically sourced from any one contractor in the past. Prior to adding any project to the PL, the Committee conducts a suitability review to ensure that the project has employment potential for people who are blind or severely disabled, that the designated nonprofit agency is qualified and capable of meeting the requirement and any level of impact on the current contractor is not severe. Accordingly, after fully reviewing this project, the Committee has determined that it is a suitable project to be added to the Procurement List.

Patricia Briscoe,
Deputy Director, Business Operations (Pricing and Information Management).

[FR Doc. 2012-28689 Filed 11-26-12; 8:45 am]

BILLING CODE 6353-01-P